DEPARTMENT OF DEFENSE

Department of the Army, Army Corps of Engineers

[NEPA ID Number: PEIS-202-00-G5P-1728988668]

Notice of Intent To Prepare a Programmatic Environmental Impact Statement (PEIS) for the Lower Missouri River Flood Risk and Resiliency System Plan

AGENCY: U.S. Army Corps of Engineers, DoD.

ACTION: Notice of intent.

SUMMARY: Pursuant to the National Environmental Policy Act (NEPA) of 1969, as amended, the U.S. Army Corps of Engineers Omaha District and Kansas City District (USACE) intend to jointly prepare a feasibility study with integrated programmatic environmental impact statement (PEIS) that analyzes and discloses effects associated with the Lower Missouri River Flood Risk and Resiliency System Plan. The System Plan is being developed to identify actions to address flood risk and resiliency along the entire Lower Missouri River. The System Plan seeks to identify projects that can achieve flood risk benefits while also providing ecological, recreational, economic, or social benefits.

DATES: The USACE invites federal and state agencies, Native American Tribes, local governments, and the public to submit comments on the alternatives and effects to be considered in the PEIS by May 28, 2025.

ADDRESSES: Send written scoping comments, requests to be added to the mailing list, or requests for sign language interpretation for people who are deaf/hard of hearing, or other special assistance needs to Mr. Max Headlee by telephone: (816) 389-3134; by mail: 601 E 12th Street, Kansas City, MO 64106; or by email: max.r.headlee@usace.army.mil. Alternatively, these materials and requests can be sent to Mr. David Crane by telephone: (402) 995-2676; by mail: 1616 Capitol Avenue, Omaha, NE 68102-4901; or by email: david.j.crane@usace.army.mil.

FOR FURTHER INFORMATION CONTACT: For further information and/or questions about the proposed feasibility study with integrated PEIS, please contact Mr. Max Headlee by telephone: (816) 389-3134, by mail: 601 E 12th Street, Kansas City, MO 64106, or by email: max.r.headlee@usace.army.mil; or contact Mr. David Crane by telephone: (402) 995-2676, by mail: 1616 Capitol Avenue, Omaha, NE 68102-4901, or by email: david.j.crane@usace.army.mil. For inquiries from the media, please contact the USACE Kansas City District Public Affairs Specialist, Ms. Christine Paul by telephone: (816) 389-2096, by mail: 601 E 12th Street, Kansas City, MO 64106, or by email: christine.e.paul@usace.army.mil.

SUPPLEMENTARY INFORMATION:

1. Background: The Lower Missouri River Flood Risk and Resiliency System Plan (System Plan) is being developed through a partnership between the USACE and the states of Iowa, Nebraska, Kansas, and Missouri. Recurring flooding on the Missouri River has created desire to find new, more resilient solutions to reduce the consequences of flooding along the 735-mile Missouri River floodplain from Sioux City, Iowa to St. Louis, Missouri.

These floods cause billions of dollars in damage to critical infrastructure, residential property, businesses, federal flood risk and navigation infrastructure, public and private transportation and utility infrastructure, and agricultural cropland and related facilities. The generally long duration of these flood events often disrupts critical transportation and utility services for several months resulting in extended recovery times even after floodwaters recede.

2. Purpose and Need for the Proposed Action: The purpose of this study is to develop a System Plan to identify actions to address flood risk and resiliency along the 735 miles of the Lower Missouri River from Sioux City, Iowa to St. Louis, Missouri. The System Plan seeks to identify projects that can achieve flood risk reduction benefits while also potentially providing secondary ecological, recreational, or social benefits. There is a need to address ongoing flood risk along the Missouri River and improve resiliency of floodplain communities and infrastructure. In the last 30 years, three record setting floods (1993, 2011, and 2019) have occurred in various reaches of the Missouri River, each of which equaled or exceeded the 0.2 percent annual exceedance probability flood event at multiple gauges. In addition, four of the six highest annual volumes of unregulated runoff in the Upper Missouri River Basin have occurred since 2010 (2010, 2011, 2018 and 2019) based on the 122-year period of record. This flooding along the Missouri River has led to injuries and death, transportation disruptions, home and business destruction, and agricultural operation impacts.

3. Description of Proposed Action and Alternatives: The no action alternative and all reasonable alternatives that meet the purpose and need will be considered in the PEIS. The USACE developed seven action alternatives for a regionally integrated and coordinated plan for the lower 735 miles of the Missouri River to reduce flood risk and improve system resiliency.

The first action alternative focuses on increased flood water conveyance in which levees are set back and realigned to widen the area available to the river when flooding, reduce flood stage, and reduce flood velocity. The second action alternative focuses on modifying roadway elevations and constructing ring levees to enhance protection of transportation and other critical infrastructure. The third action alternative focuses on the increased level of performance gained by raising existing levees to a higher elevation. The fourth action alternative focuses on improving the resiliency of existing infrastructure by identifying levees that would benefit from slope armoring, controlled overtopping, seepage/stability berms, and pumps. The fifth action alternative focuses on non-structural measures, such as identifying areas for floodproofing, increasing elevation, or buyouts. The sixth action alternative focuses on constructing new levees or federalizing and improving existing private levees. The seventh action alternative focuses on combining the themes of the other action alternatives.

USACE has also identified candidate locations where actions could be taken to achieve flood risk and resiliency benefits. The System Plan would recommend future site-specific USACE flood risk management studies for these locations. Potential environmental mitigation measures would be incorporated into the System Plan, as appropriate.

4. Summary of Potential Effects: The PEIS will analyze and disclose environmental impacts associated with the watershed-scale System Plan together with engineering, operations and maintenance, social, and economic considerations. The PEIS will address the anticipated direct, indirect, and cumulative impacts associated with the System Plan alternatives. Given the large geographic area and time horizon over which projects would be identified, the impacts analysis in the PEIS will reflect the major broad and general impacts that may result from implementation of the System Plan alternatives. The PEIS will disclose anticipated impacts to water resources, terrestrial and aquatic habitats, socioeconomics, and other resource categories.

5. Anticipated Permits, Other Authorizations, and Other Directives: While the development and implementation of the System Plan would not require any permits, the PEIS will identify any permits or authorizations that would likely be required for any tiered projects that are constructed in accordance with the System Plan.

6. Schedule for the Decision-Making Process: The USACE is currently in the process of evaluating the alternatives. The USACE anticipates that a draft System Plan with integrated PEIS will be released for public review in July 2025. The USACE anticipates that this public review period will last for 45 days. The USACE anticipates that it will finalize the System Plan with integrated PEIS by May 2026.

7. Scoping Process/Public Involvement: Public scoping meetings and other engagement opportunities are being conducted by a combination of in-person meetings held across the lower Missouri River and quarterly webinar presentations. The USACE hosted a series of public scoping meetings across the lower Missouri River in 2023 and 2024. The public was informed of this study and was given the opportunity to submit comments and questions in multiple ways. Comments could be submitted by filling out a comment sheet that included prompts for specific feedback as well as general comments. The USACE received approximately 35 comments in this manner. The USACE also provided the public with maps of the lower Missouri River and invited the public to mark these maps with location-specific comments. The USACE received approximately 115 comments in this manner. The locations of the previous in-person scoping meetings were selected to facilitate public involvement throughout the study area. The locations and dates of these meetings are listed here:

• Atchison, Kansas. First Meeting: 20 July 2023. Second Meeting: 8 April 2024.

• Council Bluffs, Iowa. First Meeting: 17 July 2023. Second Meeting: 11 April 2024.

• Jefferson City, Missouri. First Meeting: 19 July 2023. Second Meeting: 25 April 2024.

• Marshall, Missouri. 30 April 2024.

• Missouri Valley, Iowa. 11 April 2024.

• Mound City, Missouri. 1 April 2024.

• Nebraska City, Nebraska. 18 July 2023.

• Percival, Iowa. 10 April 2024.

• St. Joseph, Missouri. 9 April 2024.

• Washington, Missouri. 24 April 2024.

Quarterly webinars are currently held every third Wednesday of January, April, July, and October to provide study updates and opportunities to ask questions. These webinars will continue during the duration of the study. Links to these webinars, including recordings of previously held webinars, are available on the study's web page. This web page includes a submission form for comments and questions, answers to frequently asked questions, and an interactive map of the lower Missouri River that allows users to submit location-specific comments. The web page is available at this link: https://www.nwk.usace.army.mil/Missions/Civil-Works/Civil-Works-Programs-And-Projects/Lower-Missouri-River-Basin/.

Cooperating agencies for the System Plan include the Environmental Protection Agency, Federal Emergency Management Agency, Natural Resources Conservation Service, and United States Fish and Wildlife Service. Participating agencies for the System Plan include the Iowa Department of Natural Resources, Iowa Department of Transportation, Kansas Department of Health and Environment, Kansas Department of Transportation, Kansas Department of Wildlife and Parks, Missouri Department of Conservation, Missouri Department of Natural Resources, Missouri Department of Transportation, Nebraska Department of Environment and Energy, Nebraska Department of Natural Resources, Nebraska Department of Transportation, and Nebraska Game and Parks Commission.

The public is invited to identify and comment on issues and effects they believe should be addressed in the PEIS; considerations in developing a System Plan for the Lower Missouri River to address flood risk and resiliency; and any relevant information, studies, or analyses with respect to the development of a System Plan.

8. Public Disclosure Statement: The USACE is issuing this notice pursuant to section 102(C) of the National Environmental Policy Act of 1969, as amended, 42 U.S.C. 4321 et seq. The USACE believes it is important to inform the public of the environmental review process. To assist the USACE in identifying and considering issues related to the development of the System Plan, comments made during formal scoping and later on the draft PEIS should be as specific as possible. Reviewers should structure their participation in the environmental review of the proposal so that it is meaningful and alerts the USACE to the reviewers' position and contentions. It is very important that those interested in this System Plan participate by providing comments throughout the study process so that substantive comments and objections are made available to the USACE at a time when they can meaningfully consider and respond to them.

The study team is currently open to receive comments at any time prior to the completion of the draft System Plan with integrated PEIS. Once the draft System Plan with integrated PEIS is published for public comment, a defined public comment period (likely 45 days) will be initiated. If you wish to comment, you can mail or email your comments as indicated under the ADDRESSES section. Before including your name, address, phone number, email address, or any other personal identifying information in your comment, you should be aware that your entire comment, including your personal identifying information, may be made available to the public at any time. While you can request in your comment for us to withhold your personal identifying information from public review, we cannot guarantee that we will be able to do so.

Jeffrey D. Hall,
Colonel, Corps of Engineers, Deputy Division Commander.

[FR Doc. 2025-07293 Filed 4-25-25; 8:45 am]

BILLING CODE 3720-58-P